DEPARTMENT OF THE INTERIOR

Bureau of Land Management

[223-LLCOS01000-L11700000.PI0000-LXSIWILD0000]

Notice of Temporary Seasonal Closure of Public Lands in La Plata and Montezuma Counties, CO

AGENCY: Bureau of Land Management, Interior.

ACTION: Notice of temporary closure.

SUMMARY: Notice is hereby given that a temporary closure to all forms of entry will be in effect seasonally for certain public lands administered by the Bureau of Land Management (BLM), Tres Rios Field Office in La Plata and Montezuma Counties, Colorado. The temporary closure is necessary to protect critical wildlife habitat and minimize stress to wintering mule deer and elk and nesting raptors.

DATES: In the Durango area of La Plata County, the temporary closure of BLM-administered lands identified as critical winter wildlife habitat will be in effect annually from 12:01 a.m. on December 1 through 11:59 p.m. on April 15, with possible extension through April 30 if conditions warrant. The temporary closure of BLM-administered lands identified as critical raptor habitat will be in effect annually from 12:01 a.m. on March 15 through 11:59 p.m. on July 31.

In the Cortez area of Montezuma County, the temporary closure of BLM-administered lands identified as critical winter wildlife habitat will be in effect annually from 12:01 a.m. on December 1 through 11:59 p.m. on April 30.

All times noted are local.

The temporary seasonal closures take effect on August 1, 2022 and will expire 30 days after publication in the Federal Register of a final supplementary rule implementing the 2015 Tres Rios Field Office Resource Management Plan (RMP).

ADDRESSES: The temporary closure order, maps of the affected areas, and documents associated with the temporary closure order will be made available and posted at the Tres Rios Field Office, 29211 Highway 184, Dolores, CO 81323.

FOR FURTHER INFORMATION CONTACT: Tyler Fouss, Field Staff Ranger; 29211 Highway 184, Dolores, CO 81323; telephone: (970) 882-1131; email: tfouss@blm.gov.

Individuals in the United States who are deaf, deafblind, hard of hearing, or have a speech disability may dial 711 (TTY, TDD, or TeleBraille) to access telecommunications relay services to contact Tyler Fouss. Individuals outside the United States should use the relay services offered within their country to make international calls to the point-of-contact in the United States.

SUPPLEMENTARY INFORMATION: The need for these temporary seasonal closures is identified in the record of decision for the Tres Rios Field Office RMP and the supporting environmental impact statement (EIS). The BLM affirmed that its environmental analysis conducted in that EIS adequately informed, under the National Environmental Policy Act (NEPA), the decision regarding these temporary closures in La Plata County. That determination of NEPA adequacy is contained in the worksheet titled “Seasonal Wildlife Area Closures on Public Lands in La Plata County, Colorado” (DOI-BLM-CO-S010-2020-0006-DNA). BLM conducted additional site-specific analysis of the effects of the Cortez area closures in an environmental assessment for the Tres Rios Field Office entitled, “Transportation and Access Plan, Travel Area 1: Archuleta, La Plata and Montezuma Counties” (DOI-BLM-CO-S010-2018-0013-EA).

I. Durango Area Closures

In 1971, the BLM and Colorado Parks and Wildlife (CPW) identified the need to preserve critical winter range to minimize adverse impacts and prevent disturbance to wintering elk and mule deer. The BLM purchased land on Animas City Mountain from The Nature Conservancy and entered into a joint plan with CPW for managing Animas City Mountain and the Perins Peak Wildlife Management Area. Perins Peak was also identified as critical nesting habitat for peregrine falcons. In 1999, the BLM and CPW identified a similar need to manage for critical winter range within the Grandview Ridge Recreation Management Zone (RMZ) and developed a management plan for the Durango Special Recreation Management Area (SRMA).

II. Cortez Area Closures

The BLM designated the Cortez SRMA during revision of the Tres Rios Field Office RMP. The RMP identifies the need for annual seasonal closures in the Chutes-n-Ladders, Summit, and Aqueduct areas of the Montezuma Triangle RMZ within the Cortez SRMA. These areas provide critical winter range for elk and mule deer and are identified in the Colorado action plan for implementation of Department of the Interior Secretary's Order 3362, “Improving Habitat Quality in Western Big-Game Winter Range and Migration Corridors” (2018). When the BLM developed the SRMA, it implemented seasonal wildlife closures as a mitigation measure in response to the designation of elk and mule deer critical winter range in the Cortez SRMA.

Description of Closed Areas: This temporary closure affects the following BLM-administered public lands within the Tres Rios Field Office in La Plata County, Colorado: Animas City Mountain and Grandview Ridge RMZs within the Durango SRMA and the Perins Peak Wildlife Management Area; and in Montezuma County, Colorado: Aqueduct, Chutes and Ladders, and Summit areas of the Montezuma Triangle RMZ within the Cortez SRMA.

The legal description of affected public lands is as follows:

Grandview Ridge RMZ

New Mexico Principal Meridian, Colorado

T. 34 N., R. 9 W., North of the Ute Line

Sec. 3, lots 5 thru 13, and SE¼NW¼;

Sec. 4, lots 5 thru 12;

Sec. 9, lots 1, 2, 4 and 5;

Sec. 10, NW¼NW¼.

T. 34.5 N., R. 9 W.,

Sec. 34.

T. 35 N., R. 9 W.,

Sec. 26, SE¼NE¼, SE¼SW¼, and W½SE¼;

Sec. 34, lots 8, 9, 13, 14 and 15;

Sec. 35, W½NW¼.

The Carbon Junction Trail will remain open to its intersections with the South Rim and Sidewinder Trails. The Crites Connection Trail will remain open from its intersection with the Carbon Junction Trail to its intersection with the Telegraph Trail. The BLM will post signs at the Carbon Junction Trailhead indicating the extent of the closure area boundary and at each closed intersection indicating the points where the closure area begins.

Animas City Mountain RMZ

New Mexico Principal Meridian, Colorado

T. 35 N., R. 9 W.,

Sec. 4, S½NW¼ and SW¼;

Sec. 5, S½NE¼ and S½;

Sec. 6, lot 18;

Sec. 7, lots 10 and 14;

Sec. 8, lots 1 and 2, parcel A, W½NE¼, NW¼, N½SW¼, N½SE¼, and SW¼SE¼;

Sec. 9, lots 2 thru 6;

Sec. 17, parcel A and N½NW¼NE¼.

Users can access the 1.5-mile loop trail on the lower portion of Animas City Mountain via the trailheads at either Birkett Drive or West 32nd Street/West 4th Avenue. The BLM will post signs at the bottom of the loop indicating the extent of the closure area boundary and at the top of the open loop indicating the points where the closure area begins.

Perins Peak Wildlife Management Area

New Mexico Principal Meridian, Colorado

T. 35 N., R. 9 W.,

Sec. 7, lot 10 and 14;

Sec. 18, lots 9, 10 and 11, SE¼NW¼, and NE¼SW¼;

Sec. 19, lots 5, 6 and 7.

T. 35 N., R. 10 W.,

Sec. 2, E½SE¼;

Sec. 3, NW¼SW¼ and S½SW¼;

Sec. 4, lot 4, SW¼NW¼ and S½SE¼;

Sec. 5, lot 1 and SE¼NE¼;

Sec. 10, NW¼ and SW¼SE¼;

Sec. 11, NE¼NE¼;

Sec. 12, SW¼NE¼, NW¼NW¼, S½NW¼, N½SW¼, SW¼SW¼, and SE¼SE¼;

Sec. 13;

Sec. 14, NE¼NE¼, S½NE¼, and E½SE¼;

Sec. 15, lots 3 and 12;

Sec. 24, NE¼NE¼.

Aqueduct

New Mexico Principal Meridian, Colorado

T. 36 N., R. 13 W.,

Sec. 19, lot 4, SE¼SW¼, and SE¼;

Sec. 20, W½NW¼ and SW¼;

Sec. 29, NW¼NE¼ and N½NW¼;

Sec. 30, N½NE¼, N½SW¼NE¼, SW¼SW¼NE¼, N½SE¼SW¼NE¼, SE¼NE¼, W½NW¼SE¼, and S½SE¼NW¼SE¼.

Chutes and Ladders

New Mexico Principal Meridian, Colorado

T. 36 N., R. 14 W.,

Sec. 19, E½SW¼ and SE¼;

Sec. 20, SE¼NW¼, and SW¼;

Sec. 29, SW¼NE¼, N½NW¼, SE¼NW¼, that portion lying northerly and easterly of the southerly right-of-way boundary of U.S. Highway 160, NE¼SW¼, that portion lying northerly and easterly of the southerly right-of-way boundary of U.S. Highway 160, and W½SE¼, that portion lying northerly and easterly of the southerly right-of-way boundary of U.S. Highway 160;

Sec. 30, lots 1 and 2, excluding the right-of-way grant described in Reception No. 244629, filed October 20, 1965, in the official records of Montezuma County, Colorado, N½NE¼, and SE¼NW¼.

T.36 N., R. 15 W.,

Sec. 25, NE¼NE¼.

Summit

New Mexico Principal Meridian, Colorado

T.36 N., R. 14 W.,

Sec. 2, SW¼NW¼;

Sec. 3, E½SE¼;

Sec. 8, S½NE¼ and SE¼;

Sec. 9, W½NE¼, SE¼NE¼, S½NW¼, SW¼, and SE¼;

Sec. 10, NE¼NE¼, S½NE¼, S½NW¼, SW¼, and SE¼;

Sec. 11, W½NW¼ and SE¼NW¼;

Sec. 14, SW¼SW¼;

Sec. 15, SW¼NE¼, NW¼, SW¼, W½SE¼, and SE¼SE¼;

Sec. 17, N½NE¼, SE¼NE¼, NE¼SE¼, and S½SE¼;

Sec. 20, E½NE¼;

Sec. 21, SW¼NW¼;

Sec. 22, W½NE¼, N½NW¼, SW¼NW¼, N½SE¼, and SE¼SE¼;

Sec. 23, W½SW¼;

Sec. 26, S½SW¼ and SW¼SE¼;

Sec. 27, NE¼NE¼, W½SE¼, and SE¼SE¼.

The BLM will enforce the following temporary seasonal closures under authority of section 303(a) of the Federal Land Policy and Management Act of 1976 (43 U.S.C. 1733(a)), 43 CFR 8360.0-7, and 43 CFR 8364.1:

1. You must not enter identified closure areas in the Animas City Mountain and Grandview Ridge RMZs of the Durango SRMA from December 1 through April 15 for the protection of critical winter wildlife habitat. This closure may be extended through April 30 if conditions and wildlife needs warrant.

2. You must not enter identified closure areas in the Perins Peak Wildlife Management Area from December 1 through April 15 for the protection of critical winter wildlife habitat. This closure may be extended through April 30 if conditions and wildlife needs warrant.

3. You must not enter identified closure areas in the Perins Peak Wildlife Management Area for peregrine habitat from March 15 through July 31 for the protection of critical raptor habitat.

4. You must not enter the Chutes-n-Ladders, Summit, and Aqueduct areas of the Montezuma Triangle RMZ within the Cortez SRMA from December 1 through April 30 for the protection of critical winter wildlife habitat. Travel on county roads through these areas is allowed.

Exceptions to Closure: The following persons are exempt from this order: Federal, State, and local officers and employees in the performance of their official duties; members of organized rescue or fire-fighting forces in the performance of their official duties; and persons with written authorization from the BLM.

Enforcement: Any person who violates this temporary closure may be tried before a United States Magistrate and fined, imprisoned, or both, in accordance with 43 U.S.C. 1733(a), 18 U.S.C. 3571, and 43 CFR 8360.0-7. In accordance with 43 CFR 8365.1-7, State or local officials may also impose penalties for violations of State or local law.

Effect of Closure: All areas as described in this notice are temporarily closed to all public use, including pedestrian use and vehicles, during the time periods as denoted in this notice, unless specifically excepted as described earlier.

(Authority: 43 U.S.C. 1733(a), 43 CFR 8364.1, 43 CFR 8360.0-7)

Brian D. Achziger,
BLM Colorado Acting State Director.

[FR Doc. 2022-14051 Filed 6-29-22; 8:45 am]

BILLING CODE 4310-JB-P